DEPARTMENT OF TRANSPORTATION

Surface Transportation Board

Notice and Request for Comments

AGENCY: Surface Transportation Board.

ACTION: Notice of intent to seek approval of existing collection: Waybill Sample

SUMMARY: As required by the Paperwork Reduction Act of 1995, 44 U.S.C. 3501 et seq. (PRA), the Surface Transportation Board (STB or Board) gives notice of its intent to seek from the Office of Management and Budget (OMB) an approval for the currently existing collection of Waybill Sample data. This information collection is described in detail below. Comments are requested concerning: (1) The accuracy of the Board's burden estimates; (2) ways to enhance the quality, utility, and clarity of the information collected; (3) ways to minimize the burden of the collection of information on the respondents, including the use of automated collection techniques or other forms of information technology, when appropriate; and (4) whether this collection of information is necessary for the proper performance of the functions of the Board, including whether the collection has practical utility. Submitted comments will be summarized and included in the Board's request for OMB approval.

Description of Collection

Title: Waybill Sample.

OMB Control Number: 2140-00.

STB Form Number: None.

Type of Review: Approval of existing collection.

Respondents: Any regulated railroad that terminated at least 4,500 carloads on its line in any of the three preceding years or that terminated at least 5% of the total revenue carloads that terminated in a particular state.

Number of Respondents: 64.

Estimated Time Per Response: 75 minutes.

Frequency: Five (5) respondents report Monthly; 59 report quarterly.

Total Burden Hours (annually including all respondents): 370 hours.

Total “Non-hour Burden” Cost: No “non-hour cost” burdens associated with this collection have been identified.

Needs and Uses: The Surface Transportation Board is, by statute, responsible for the economic regulation of common carrier rail transportation in the United States. Under 49 CFR part 1244, a railroad is required to file carload waybill sample information (Waybill Sample) for all line-haul revenue waybills terminating on its lines if, in any of the three preceding years, it terminated 4500 or more carloads, or it terminated at least 5% of the total revenue carloads that terminate in a particular state. The information in the Waybill Sample is used by the Board, other Federal and state agencies, and industry stakeholders to monitor traffic flows and rate trends in the industry, and to develop testimony in Board proceedings. The Board has authority to collect this information under 49 U.S.C. 11144 and 11145.

DATES: Comments on this information collection should be submitted by July 20, 2007.

ADDRESSES: Direct all comments to Marilyn Levitt, Surface Transportation Board, Suite 1260, 395 E Street, SW., Washington, DC 20423-0001, or to levittm@stb.dot.gov. When submitting comments, please refer to “Paperwork Reduction Comments: Waybill Sample.”

For Further Information Or To Obtain A Copy Of Pertinent Regulations Contact: Mac Frampton at (202) 245-0317 or at hugh.frampton@stb.dot.gov. [Assistance for the hearing impaired is available through the Federal Information Relay Service (FIRS) at 1-800-877-8339.] These regulations are codified at 49 CFR parts 1244.1-1244.9 and are also available on the web through http://www.gpoaccess.gov/cfr/index.html.

SUPPLEMENTARY INFORMATION: Under the PRA, a Federal agency conducting or sponsoring a collection of information must display a currently valid OMB control number. A collection of information, which is defined in 44 U.S.C. 3502(3) and 5 CFR 1320.3(c), includes agency requirements that persons submit reports, keep records, or provide information to the agency, third parties, or the public. Under section 3506(c)(2)(A) of the PRA, Federal agencies are required to provide public notice and a 60-day comment period, prior to seeking OMB approval for an information collection.

Dated: May 21, 2007.
Vernon A. Williams,
Secretary.

[FR Doc. E7-9689 Filed 5-18-07; 8:45 am]

BILLING CODE 4915-01-P